OCCUPATIONAL SAFETY AND HEALTH REVIEW COMMISSION

29 CFR Parts 2200 and 2203

Rules of Procedure; Regulations Implementing the Government in the Sunshine Act; Corrections and Technical Amendments

AGENCY: Occupational Safety and Health Review Commission.

ACTION: Final rule; corrections and technical amendments.

SUMMARY: The Occupational Safety and Health Review Commission (OSHRC) is making corrections and technical amendments to its rules and regulations, which include revisions to its address and regularly scheduled meeting time, as well as corrections of erroneous cross-references and a typographical error.

DATES: Effective on September 29, 2008.

FOR FURTHER INFORMATION CONTACT: Ron Bailey, Attorney-Advisor, Office of the General Counsel, by telephone at (202) 606-5410, by e-mail at rbailey@oshrc.gov, or by mail at: 1120—20th Street, NW., Ninth Floor, Washington, DC 20036-3457.

SUPPLEMENTARY INFORMATION:

I. Background

OSHRC is making several corrections and technical amendments to its Rules of Procedure found at 29 CFR part 2200, and its Regulations Implementing the Government in Sunshine Act found at 29 CFR part 2203.

As to 29 CFR part 2200, OSHRC is correcting a typographical error in § 2200.63(b) by removing “zequesten¢” and adding in its place “requested.” Also, in §§ 2200.57(a) and 2200.96, OSHRC is amending the reference to its nine-digit ZIP code, which has been changed from 20036-3419 to 20036-3457. Finally, OSHRC is correcting cross-references that should have been amended when OSHRC revised its Rules of Procedure on July 3, 1997 (62 FR 35961). In that revision, OSHRC reduced the period specified in § 2200.90(b)(2) for transmitting a judge's decision to the Executive Secretary from 20 days to 10 days. This 20-day period was previously cross-referenced in §§ 2200.91(c) and 2200.209(g), but was inadvertently left unchanged. Therefore, § 2200.91(c), which refers to “the 20 days provided by § 2200.90(b),” is corrected to read “the 10 days provided by § 2200.90(b)”; and § 2200.209(g), which refers to the “21 day period provided for in rule § 2200.90(b)(2),” is corrected to read the “11-day period provided for in rule § 2200.90(b)(2).”

As to 29 CFR part 2203, OSHRC is amending the time of its regularly-scheduled meetings. Sections 2203.2 (definition of “Regularly-scheduled meetings”) and 2203.4(c) presently state that such meetings are held at 10 a.m. every Thursday, except for legal holidays. In both sections, this meeting time is being amended to “10:30 a.m.” every Thursday, except for legal holidays. Also, in §§ 2203.4(c) and 2203.7(b), OSHRC is amending the reference to its nine-digit ZIP code from 20036-3419 to 20036-3457.

II. Statutory and Executive Order Reviews

Waiver of Proposed Rulemaking: For good cause, OSHRC finds that prior notice and opportunity for comment on these changes are unnecessary pursuant to 5 U.S.C. 553(b)(3)(B), because the amendments and corrections to the affected sections are merely technical in nature and propose no substantive changes on which public comment could be solicited.

Waiver of 30-Day Delayed Effective Date Requirement: OSHRC finds that good cause exists for the final rule to be exempt from the 30-day delayed effective date requirement of 5 U.S.C. 553(d) because a delay in clarifying these rules would be contrary to the public interest.

Executive Orders 12866 and 13132, and the Unfunded Mandates Reform Act of 1995: OSHRC is an independent regulatory agency, and, as such, is not subject to the requirements of E.O. 12866, E.O. 13132, or the Unfunded Mandates Reform Act, 2 U.S.C. 1501 et seq.

Regulatory Flexibility Act: OSHRC has determined that this rulemaking is exempt from the requirements of the Regulatory Flexibility Act, 5 U.S.C. 604(a), because, as noted, a general notice of proposed rulemaking is not required under 5 U.S.C. 553(b).

Paperwork Reduction Act of 1995: OSHRC has determined that the Paperwork Reduction Act, 44 U.S.C. 3501 et seq., is not applicable here because this final rule contains no information collection requirements that require the approval of OMB.

Congressional Notification: OSHRC has determined that the Congressional Review Act, 5 U.S.C. 801, is not applicable here because, pursuant to 5 U.S.C. 804(3)(C), this final rule “does not substantially affect the rights or obligations of non-agency parties.”

List of Subjects

29 CFR Part 2200

Administrative practice and procedure.

29 CFR Part 2203

Sunshine Act.

Signed at Washington, DC, on the 23rd day of September, 2008.
Horace A. Thompson III,
Chairman.
Thomasina V. Rogers,
Commissioner.

Accordingly, 29 CFR parts 2200 and 2203 are corrected by making the following amendments:

PART 2200—RULES OF PROCEDURE

1. The authority citation for part 2200 continues to read as follows:

Authority: 29 U.S.C. 661(g), unless otherwise noted. Section 2200.96 is also issued under 28 U.S.C. 2112(a).

2. In § 2200.57, paragraph (a), in the third sentence, remove the ZIP code suffix “3419” and add, in its place, “3457”.

3. In § 2200.63, paragraph (b), correct “zequesten¢” to read “requested”.

4. In § 2200.91, paragraph (c), in the fourth sentence, remove the number “20” and add, in its place, “10”.

5. In § 2200.96, in the first sentence, remove the ZIP code suffix “3419” and add, in its place, “3457”.

6. In § 2200.209, paragraph (g), in the last sentence, remove the phrase “21 day” and add, in its place, “11-day”.

PART 2203—REGULATIONS IMPLEMENTING THE GOVERNMENT IN THE SUNSHINE ACT

7. The authority citation for part 2203 continues to read as follows:

Authority: 29 U.S.C. 661(g); 5 U.S.C. 552b(d)(4); 5 U.S.C. 552b(g).

8. In § 2203.2, in the definition of “Regularly-scheduled meetings,” remove the time “10:00 a.m.” and add, in its place, “10:30 a.m.”

9. In § 2203.4, paragraph (c), in the first sentence, remove the time “10:00 a.m.” and add, in its place, “10:30 a.m.”

10. In § 2203.4, paragraph (c), in the first sentence, remove the ZIP code suffix “3419” and add, in its place, “3457”.

11. In § 2203.7, paragraph (b), in the third sentence, remove the ZIP code suffix “3419” and add, in its place, “3457”.

[FR Doc. E8-22783 Filed 9-26-08; 8:45 am]

BILLING CODE 7600-01-P